DEPARTMENT OF ENERGY

Federal Energy Regulatory Commission

[Project No. 199-205]

South Carolina Public Service Authority; Notice of Meeting

On May 6, 2011, the National Marine Fisheries Service (NMFS) contacted Commission staff regarding a meeting with South Carolina Public Service Authority (SCPSA), licensee for the Santee-Cooper Hydroelectric Project No. 199, and staff to discuss what is needed to complete formal consultation for shortnose sturgeon (Acipenser brevirostrum) under section 7 of the Endangered Species Act. Accordingly, Commission staff will meet with representatives of NMFS and SCPSA, the Commission's non-Federal representative for the Santee-Cooper Project, on Thursday, May 26, 2011. The meeting will start at 9 a.m. at NMFS' office at 253 13th Avenue South, St. Petersburg, Florida. All local, State, and Federal agencies, and interested parties, are hereby invited to attend and observe this meeting. Questions concerning the meeting should be directed to Dr. Stephania Bolder of NMFS at (727) 824-5312.

Dated: May 10, 2011.
Kimberly D. Bose,
Secretary.

[FR Doc. 2011-11915 Filed 5-13-11; 8:45 am]

BILLING CODE 6717-01-P